FEDERAL COMMUNICATIONS COMMISSION

47 CFR Part 73

[DA 00-1591, MM Docket No. 99-319; RM-9756]

Digital Television Broadcast Services; Albany, GA

AGENCY: Federal Communications Commission.

ACTION: Final rule.

SUMMARY: The Commission, at the request of Waitt License Company of Georgia, L.L.C., licensee of station WFXL(TV), NTSC Channel 31, substitutes DTV Channel 12 for DTV Channel 30 at Albany, Georgia. See 64 FR 60150, November 4, 1999. DTV Channel 12 can be allotted to Albany at coordinates (31-19-52 N. and 83-51-43 W.) with a power of 60, HAAT of 287 meters, and with a DTV service population of 631 thousand. With this action, this proceeding is terminated.

DATES: Effective September 5, 2000.

FOR FURTHER INFORMATION CONTACT: Pam Blumenthal, Mass Media Bureau, (202) 418-1600.

SUPPLEMENTARY INFORMATION: This is a synopsis of the Commission's Report and Order, MM Docket No. 99-319, adopted July 19, 2000, and released July 20, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

List of Subjects in 47 CFR Part 73

Television, Digital television broadcasting.

Part 73 of Title 47 of the Code of Federal Regulations is amended as follows:

PART 73—[AMENDED]

1. The authority citation for part 73 continues to read as follows:

Authority: 47 U.S.C. 154, 303, 334. 336.

§ 73.622 [Amended]

2. Section 73.622(b), the Table of Digital Television Allotments under Georgia, is amended by removing DTV Channel 30 and adding DTV Channel 12 at Albany.

Federal Communications Commission.
Barbara A. Kreisman,
Chief, Video Services Division, Mass Media Bureau.

[FR Doc. 00-18765 Filed 7-24-00; 8:45 am]

BILLING CODE 6712-01-P